ENVIRONMENTAL PROTECTION AGENCY

[ER-FRL-6655-9]

Environmental Impact Statements; Notice of Availability

Responsible Agency: Office of Federal Activities, General Information (202) 564-7167 or http://www.epa.gov/compliance/nepa/.

Weekly receipt of Environmental Impact Statements

Filed September 13, 2004 Through September 17, 2004

Pursuant to 40 CFR 506.9.

EIS No. 040442, DRAFT EIS, BLM, UT, Castle Peak and Eighmile Flat Oil and Gas Expansion Project, Proposal to Expand Crude Oil and Natural Gas Development and Production Program, Right-of-Way Grant, Duchesne and Uintah Counties, UT; Comment Period Ends: November 8, 2004; Contact: Jean Nitschke-Sinclear (435) 781-4473.

EIS No. 040443, DRAFT EIS, NPS, ME, Schoodic General Management Plan Amendment, Implementation, Acadia National Park, ME; Comment Period Ends: November 23, 2004; Contact: John T. Kelly (207) 288-8703.

EIS No. 040444, DRAFT EIS, AFS, OR, Joseph Creek Rangeland Analysis Project, Proposal to Allocate Forage for Commercial Livestock Grazing on Eleven Allotments, Wallowa-Whitman National Forest, Wallowa Valley Ranger District, Wallowa County, OR; Comment Period Ends: November 8, 2004; Contact: Alicia Glassford (541) 426-5689.

EIS No. 040445, FINAL EIS, AFS, WY, ID, High Mountains Heli-Skiing (HMH) Project, Issuance of a New 5-Year Special Use Permit (SUP) to Continue Operating Guided Helicopter Skiing in Portions of the Bridger-Teton National Forest and Caribou-Targhee National Forest (CTNF), Teton and Lincoln Counties, WY and Teton and Bonneville Counties, ID, Wait Period Ends: October 25, 2004, Contact: Ray Spencer (307) 739-5400.

EIS No. 040446, DRAFT EIS, AFS, UT, Wasatch Plateau Grazing Project, Proposal to Continue to Authorize Sheep Grazing by Issuance of a Term Grazing Permits on 3 Sheep Allotments, Manti-La Sal National Forest, Sanpete, Ferron and Price Ranger Districts, Sanpete, Carbon, Utah and Emery Counties, UT; Comment Period Ends: November 8, 2004; Contact: John Healy (435) 636-3585.

EIS No. 040447, DRAFT SUPPLEMENT, BIA, AZ, NM, Programmatic—Navajo Nation 10-Year Forest Management Plan, New and Updated Information on Alternatives, Chuska Mountains and Defiance Plateau Area, AZ, and NM; Comment Period Ends: November 8, 2004; Contact: Jonathan Martin (928) 729-7228.

EIS No. 040448, FINAL EIS, AFS, MN, Virginia Forest Management Project Area, Resource Management Activities on 101,000 Acres of Federal Land, Implementation, Superior National Forest, Eastern Region, St. Louis County, MN; Comment Period Ends: October 25, 2004; Contact: Susan Duffy (218) 229-8800. This document is available on the Internet at: http://www.superiornationalforest.org.

EIS No. 040449, FINAL EIS, AFS, MT, Sheep Creek Range Analysis, Grazing and Special Use Allotments Reorganization, Grazing and Special Use Permits Issuance, Lewis and Clark National Forest, White Sulphur Springs Ranger District, Meagher and Cascade Counties, MT; Wait Period Ends: October 25, 2004; Contact: Eldon Rash (406) 791-7706.

EIS No. 040450, FINAL EIS, AFS, OR, Easy Fire Recovery Project and Proposed Nonsignificant Forest Plan Amendments, Timber Salvage, Future Fuel Reduction, Road Reconstruction and Maintenance, Road Closure, Tree Planting and Two Non-significant Forest Plan Amendments, Implementation, Malheur National Forest, Prairie City Ranger District, Grant County; Wait Period Ends: October 25, 2004; Contact: Rick Larson (541) 820-3391.

EIS No. 040451, FINAL EIS, AFS, OR, Mt. Ashland Ski Area Expansion, Site Specific Project, Maintenance and Enhancements of Environmental Resources, Implementation, Special Use Permit, Ashland Ranger District, Rogue River National Forest and Scott River Ranger District, Klammath National Forest, Jackson County, OR; Wait Period Ends: October 25, 2004; Contact: Linda Duffy (541) 592-2900.

This document is available on the Internet at: http//www.fs.fed.us/r6/siskiyou/planning/mtashland/feis/.

EIS No. 040452, DRAFT EIS, NRC, MI, Generic-Donald C. Cook Nuclear Plant, Units No. 1 and 2, (TAC No. MC 1221 and MC 1222) License Renewal, Supplement 20 to NUREG 1437, Berrien County, MI; Comment Period Ends: December 8, 2004; Contact: Robert Schaaf (301) 415-1312.

EIS No. 040453, FINAL EIS, AFS, AK, Commercially Guided Helicopter Skiing on the Kena, Peninula, Issuance of a Five Year Special Use Permit, Chugach National Forest, Glacier and Seward Ranger Districts, Kenai Peninsula, AK; Wait Period Ends: October 25, 2004; Contact: Theresa Paquet (907) 783-3242.

EIS No. 040454, FINAL EIS, NOA, WA, CA, OR, Programmatic EIS—Pacific Coast Groundfish Bycatch Management, Establishment of Policies and Program Direction to Minimize Bycatch in the West Coast Groundfish Fisheries, Magnuson-Stevens Act, WA, OR, and CA; Wait Period Ends: October 25, 2004; Contact: D. Robert Lohn (206) 526-6150.

Amended Notices

EIS No. 040438, DRAFT EIS, DOD, Programmatic—Missile Defense Agency, To Incrementally Develop, Test, Deploy and Planning for Decommissioning of the Ballistic Missile Defense System (BMDS); Comment Period Ends: November 17, 2004; Contact: Martin Duke (703) 697-4248. Revision of FR Notice Published on 9/17/2004: CEQ Comment Period Extended from 11/1/2004 to 11/17/2004.

Dated: September 2, 2004.
Robert W. Hargrove,
Division Director, NEPA Compliance Division, Office of Federal Activities.

[FR Doc. 04-21492 Filed 9-23-04; 8:45 am]

BILLING CODE 6560-50-P